DEPARTMENT OF ENERGY

Federal Energy Regulatory Commission

[Docket No. EC01-5-000, et al.]

Oregon Trail Electric Consumers Cooperative, Inc., et al.; Electric Rate and Corporate Regulation Filings

October 23, 2000.

Take notice that the following filings have been made with the Commission:

1. Oregon Trail Electric Consumers Cooperative, Inc.

[Docket Nos. EC01-5-000 and ER01-124-000]

Take notice that on October 13, 2000, Oregon Trail Electric Consumers Cooperative, Inc. (Oregon Trail) submitted for filing an application seeking an order: (1) Authorizing Oregon Trail to lease the 66-mile-long 138-kV Hines-West John Day transmission line and three step-down transformers owned by Oregon Trail to the Bonneville Power Administration (BPA) pursuant to Section 203 of the Federal Power Act (FPA); and (2) accepting and approving, without suspension or hearing, amendments to an existing operation and maintenance agreement between Oregon Trail and BPA for such transmission facilities pursuant to Section 205 of the FPA.

Comment date: November 3, 2000, in accordance with Standard Paragraph E at the end of this notice.

2. PG&E Energy Trading Holdings, LLC, PG&E Energy Trading-Power, L.P.

[Docket No. EC01-6-000]

Take notice that on October 16, 2000, PG&E Energy Trading Holdings, LLC and PG&E Energy Trading-Power, L.P. (PGET) tendered for filing an application for authorization pursuant to section 203 of the Federal Power Act for an intra-corporate change in the upstream ownership of PGET.

A copy of this Application was served upon the California Public Utilities Commission.

Comment date: November 6, 2000, in accordance with Standard Paragraph E at the end of this notice.

3. Central Hudson Gas & Electric Corporation, Consolidated Edison Co. of New York, Inc., Niagara Mohawk Power Corporation, Dynegy Power Corp.

[Docket Nos. EC01-7-000 and and ER01-126-000]

Take notice that on October 16, 2000, Central Hudson Gas & Electric Corporation (Central Hudson), Consolidated Edison Co. of New York, Inc. (Con Edison), Niagara Mohawk Power Corporation (Niagara Mohawk) and Dynegy Power Corp. on behalf of Dynegy Roseton, L.L.C. and Dynegy Danskammer, L.L.C. (the Dynegy Acquirors) (collectively the Applicants) tendered for filing an application under Section 203 of the Federal Power Act for approval of the transfer of (a) certain Federal Power Act (FPA) jurisdictional facilities associated with the transfer of certain generation assets owned by Central Hudson, Con Edison and Niagara Mohawk to the Dynegy Acquirors and (b) of certain limited FPA jurisdictional transmission facilities of Con Edison and Niagara Mohawk to Central Hudson. The applicants also tendered for filing under Section 205 of the Federal Power Act a request by Central Hudson for Commission approval of certain interconnection agreements and transmission facility construction payment obligations.

Comment date: November 6, 2000, in accordance with Standard Paragraph E at the end of this notice.

4. Tenaska Alabama II Partners, L.P.

[Docket No. EG01-6-000]

Take notice that on October 16, 2000, Tenaska Alabama II Partners, L.P., 1044 North 115th Street, Suite 400, Omaha, Nebraska 68154 (Tenaska Alabama II), filed with the Federal Energy Regulatory Commission an application for determination of exempt wholesale generator status pursuant to Part 365 of the Commission's regulations.

Tenaska Alabama II, a Delaware limited partnership, will construct, own, and operate a natural gas fired combined-cycle fuel conversion facility (the Facility) to be constructed and located near Billingsley, Alabama, in Autauga County. The Facility will consist of three “F” Class combustion turbine-generators and one steam turbine-generator, and will use natural gas as the primary fuel and fuel oil as backup fuel for the combustion turbines. The Facility will also include natural gas receipt facilities, fuel oil storage facilities, fuel oil unloading facilities, and a switchyard. The nominal net electric output of the facility will be approximately 900 MW. The Facility will include related transmission interconnection components necessary to interconnect the Facility with Alabama Power Company.

The Facility will be used exclusively for the generation of electric energy to be delivered to an unaffiliated third-party customer.

Comment date: November 13, 2000, in accordance with Standard Paragraph E at the end of this notice. The Commission will limit its consideration of comments to those that concern the adequacy or accuracy of the application.

5. Western Farmers Electric Cooperative

[Docket No. EL01-4-000]

Take notice that on October 16, 2000, Western Farmers Electric Cooperative (Applicant) filed with the Federal Energy Regulatory Commission a petition for declaratory order disclaiming jurisdiction and request for expedited consideration.

The Applicant owns Hugo Generation Station, a 475 MV coal-fired electric generating facility located in Hugo, Oklahoma, approximately 250 miles of 138,000 volt overhead transmission line, five related switch substations, six related taps and eleven related substations, all located in Oklahoma (the Project). Applicant is seeking a disclaimer of jurisdiction in connection with a lease and leaseback financing involving the Project.

Comment date: November 15, 2000, in accordance with Standard Paragraph E at the end of this notice.

6. SOWEGA Power LLC

[Docket No. EL01-5-000]

Take notice that on October 16, 2000, SOWEGA Power LLC tendered for filing a request for waiver of the Commission's open access transmission tariff and OASIS requirements to the extent required in connection with SOWEGA Power LLC's ownership of interconnection facilities (generation step-up transformers and an interest in certain common bus facilities) located at the plant site where SOWEGA Power LLC's two 50 MW summer nominal capacity generators are located.

Comment date: November 15, 2000, in accordance with Standard Paragraph E at the end of this notice.

7. Pacific Gas and Electric Company v. Sunnyside Cogeneration Partners, L.P., RW Monterey, Inc., Ridgewood Electric Power Trust II, Ridgewood Power LLC

[Docket Nos. EL01-7-000 and QF91-50-000]

Take notice that on October 18, 2000, Pacific Gas and Electric Company filed a Petition for Declaratory Order and Revocation of Qualifying Status, Motion for the Establishment of Just and Reasonable Rates, and Motion for Refunds (Petition). The Petition involves a cogeneration facility self-certified as a QF in Docket No. QF91-50-000.

Comment date: November 17, 2000, in accordance with Standard Paragraph E at the end of this notice.

8. California Independent System Operator Corporation

[Docket No. ER00-2383-000]

Take notice that on October 17, 2000, the California Independent System Operator Corporation (ISO) tendered for filing a Notice of Implementation, posted on the ISO Home Page and sent to all Market Participants on October 16, 2000, which specifies that, effective October 26, 2000, the ISO will begin implementation of Adjustment Bids in conjunction with Inter-Scheduling Coordinator Energy Trades (Inter-SC Trade Adjustment Bids).

The ISO states that this filing has been served on all parties listed on the official service list in the above-captioned docket.

Comment date: November 7, 2000, in accordance with Standard Paragraph E at the end of this notice.

9. Commonwealth Edison Company

[Docket No. ER01-144-000]

Take notice that on October 18, 2000, Commonwealth Edison Company (ComEd) submitted for filing a revised firm Agreement with Commonwealth Edison Company, in its wholesale merchant function (WMD) under the terms of ComEd's Open Access Transmission Tariff (OATT).

ComEd requests an effective date of October 1, 2000 for the Agreement with WMD, and accordingly, seeks waiver of the Commission's notice requirements.

Comment date: November 8, 2000, in accordance with Standard Paragraph E at the end of this notice.

10. New York State Electric & Gas Corporation

[Docket No. ER01-145-000]

Take notice that on October 18, 2000, New York State Electric & Gas Corporation (NYSEG) tendered for filing as an initial rate schedule pursuant to Part 35 of the Federal Energy Regulatory Commission's regulations, 18 CFR Part 35, an Interconnection Agreement (IA) with Boralex Chateaugay, Inc. (Boralex). The IA provides for interconnection service to Boralex at the rates, terms, charges, and conditions set forth therein.

NYSEG is requesting that the IA become effective as of October 19, 2000.

Copies of this filing have been served upon the New York State Public Service Commission, Boralex and the New York Independent System Operator, Inc.

Comment date: November 8, 2000, in accordance with Standard Paragraph E at the end of this notice.

11. New England Power Pool

[Docket No. ER01-146-000]

Take notice that on October 18, 2000, the New England Power Pool (NEPOOL) Participants Committee tendered for filing two Service Agreements for Long-Term Firm Out Service pursuant to Section 205 of the Federal Power Act and 18 CFR 35.12 of the Commission's regulations.

Acceptance of this Service Agreement will recognize the provision of Long-Term Firm Out Service to Constellation Power Source, Inc. and Sithe Power Marketing, L.P., in accordance with the provisions of the NEPOOL Open Access Transmission Tariff, as amended and supplemented.

In each case, an effective date of January 1, 2001 for commencement of transmission service has been requested.

Copies of this filing were sent to all NEPOOL members, the New England public utility commissioners and all parties to the transaction.

Comment date: November 8, 2000, in accordance with Standard Paragraph E at the end of this notice.

12. Southern Energy Delta, L.L.C., Southern Energy Potrero, L.L.C.

[Docket No. ER01-147-000]

Take notice that on October 18, 2000, Southern Energy Delta, L.L.C. (SE Delta) and Southern Energy Potrero, L.L.C. (SE Potrero), tendered for filing revised tariff sheets to the Must-Run Service Agreements (RMR Agreements) between SE Delta, SE Potrero, and the California Independent System Operator Corporation (the ISO). If accepted, these revisions would permit SE Delta and SE Potrero to recover their costs incurred pursuant to ISO Tariff Amendment No. 26.

Comment date: November 8, 2000, in accordance with Standard Paragraph E at the end of this notice.

13. Consumers Energy Company

[Docket No. ER01-148-000]

Take notice that on October 18, 2000, Consumers Energy Company (Consumers) tendered for filing executed Firm and Non-Firm Point to Point Transmission Service Agreements with Split Rock Energy LLC (Customer) pursuant to the Joint Open Access Transmission Service Tariff filed on December 31, 1996 by Consumers and The Detroit Edison Company (Detroit Edison).

The agreements have effective dates of October 11, 2000.

Copies of the filed agreement were served upon the Michigan Public Service Commission, Detroit Edison, and the Customer.

Comment date: November 8, 2000, in accordance with Standard Paragraph E at the end of this notice.

14. Southwest Power Pool, Inc.

[Docket No. ER01-150-000]

Take notice that on October 18, 2000, Southwest Power Pool, Inc. (SPP) tendered for filing an executed service agreement for Firm Point-to-Point Transmission Service with Western Resources Generation Services (Transmission Customer).

SPP seeks an effective date of November 1, 2000 for the service agreement.

A copy of this filing was served on the Transmission Customer.

Comment date: November 8, 2000, in accordance with Standard Paragraph E at the end of this notice.

15. Southwest Power Pool, Inc.

[Docket No. ER01-151-000]

Take notice that on October 18, 2000, Southwest Power Pool, Inc. (SPP) tendered for filing two executed service agreements for Firm Point-to-Point Transmission Service with UtiliCorp and Western Resources Generation Services (collectively, Transmission Customers)

Copies of this filing were served on the Transmission customers.

Comment date: November 8, 2000, in accordance with Standard Paragraph E at the end of this notice.

16. Allegheny Power Service Corporation, on behalf of Monongahela Power Company, The Potomac Edison Company, and West Penn Power Company (Allegheny Power)

[Docket No. ER01-152-000]

Take notice that on October 18, 2000, Allegheny Power Service Corporation on behalf of Monongahela Power Company, The Potomac Edison Company and West Penn Power Company (Allegheny Power), filed Service Agreement No. 328 to add Allegheny Energy Supply Company, LLC to Allegheny Power's Open Access Transmission Service Tariff which has been accepted for filing by the Federal Energy Regulatory Commission.

The proposed effective date under the Service Agreement is January 1, 2001.

Copies of the filing have been provided to the Public Utilities Commission of Ohio, the Pennsylvania Public Utility Commission, the Maryland Public Service Commission, the Virginia State Corporation Commission, the West Virginia Public Service Commission.

Comment date: November 8, 2000, in accordance with Standard Paragraph E at the end of this notice.

17. Allegheny Power Service Corporation, on behalf of Monongahela Power Company, The Potomac Edison Company, and West Penn Power Company (Allegheny Power)

[Docket No. ER01-153-000]

Take notice that on October 18, 2000, Allegheny Power Service Corporation on behalf of Monongahela Power Company, The Potomac Edison Company and West Penn Power Company (Allegheny Power), filed Service Agreement No. 329 to add Allegheny Energy Supply Company, LLC to Allegheny Power's Open Access Transmission Service Tariff which has been accepted for filing by the Federal Energy Regulatory Commission.

The proposed effective date under the Service Agreement is January 1, 2001.

Copies of the filing have been provided to the Public Utilities Commission of Ohio, the Pennsylvania Public Utility Commission, the Maryland Public Service Commission, the Virginia State Corporation Commission, the West Virginia Public Service Commission.

Comment date: November 8, 2000, in accordance with Standard Paragraph E at the end of this notice.

18. Allegheny Power Service Corporation, on behalf of Monongahela Power Company, The Potomac Edison Company, and West Penn Power Company (Allegheny Power)

[Docket No. ER01-154-000]

Take notice that on October 18, 2000, Allegheny Power Service Corporation on behalf of Monongahela Power Company, The Potomac Edison Company and West Penn Power Company (Allegheny Power), filed Service Agreement No. 330 to add Allegheny Energy Supply Company, LLC to Allegheny Power's Open Access Transmission Service Tariff which has been accepted for filing by the Federal Energy Regulatory Commission.

The proposed effective date under the Service Agreement is January 1, 2001.

Copies of the filing have been provided to the Public Utilities Commission of Ohio, the Pennsylvania Public Utility Commission, the Maryland Public Service Commission, the Virginia State Corporation Commission, the West Virginia Public Service Commission.

Comment date: November 8, 2000, in accordance with Standard Paragraph E at the end of this notice.

19. Entergy Services, Inc.

[Docket No. ER01-155-000]

Take notice that on October 18, 2000, Entergy Services, Inc. (Entergy), on behalf of Entergy Gulf States, Inc., tendered for filing an amended Exhibit A to the Agreement for Special Requirements Wholesale Electric Service between Entergy Gulf States, Inc., and Sam Rayburn G&T Electric Cooperative, Inc. Entergy states that the amended Exhibit A reflects changes to certain points of delivery for Sam Houston Electric Cooperative, Inc.

Comment date: November 8, 2000, in accordance with Standard Paragraph E at the end of this notice.

20. Pennsylvania Electric Company

[Docket No. ER01-156-000]

Take notice that on October 18, 2000, Pennsylvania Electric Company (d/b/a GPU Energy) submitted for filing a Generation Facility Transmission Interconnection Agreement (Agreement) by and between GPU Energy and Handsome Lake Energy, L.L.C. (Handsome Lake), entered into on October 6, 2000.

Copies were served upon Handsome Lake and regulators in the State of Pennsylvania.

Comment date: November 8, 2000, in accordance with Standard Paragraph E at the end of this notice.

21. Sierra Pacific Power Company

[Docket No. ER01-159-000]

Take notice that on October 17, 2000, Sierra Pacific Power Company (Sierra) filed a revision to the General Transfer Agreement (GTA) between Sierra and Bonneville Power Administration (BPA).

Sierra states that the revision would decrease the total monthly facilities charge from $131,389 to $130,755 to reflect a change in the percentage of initial capital investment used to calculate the Estimated O&M Charge.

Sierra requests that the decreased charge be made effective at 2400 hours on October 31, 2000.

Copies of this filing were served upon the Public Utilities Commission of Nevada, the Public Utilities Commission of California, the Nevada Bureau of Consumer Protection and Bonneville Power Administration.

Comment date: November 7, 2000, in accordance with Standard Paragraph E at the end of this notice.

22. Tenaska Frontier Partners, Ltd.

[Docket No. ER01-168-000]

Take notice that on October 18, 2000, Tenaska Frontier Partners, Ltd., 1044 North 115 Street, Suite 400, Omaha, Nebraska 68154 (Tenaska Frontier), tendered for filing with the Federal Energy Regulatory Commission the Power Purchase Agreement between Tenaska Frontier and PECO Energy Company (PECO) dated as of October 29, 1997, and amended as of August 24, 1998 (PPA). The filing is made pursuant to Tenaska Frontier's authority to sell power at market-based rates under its Market-Based Rate Tariff, Rate Schedule FERC No. 1, Original Volume No. 1, approved by the Commission on March 30, 1998, in Docket No. ER98-1767-000.

Comment date: November 7, 2000, in accordance with Standard Paragraph E at the end of this notice.

23. Northern Indiana Public Service Company

[Docket No. ER01-169-000]

Take notice that on October 18, 2000, Northern Indiana Public Service Company (Northern Indiana) filed a Service Agreement pursuant to its Wholesale Market-Based Rate Tariff with Reliant Energy Services, Inc. (Reliant).

Northern Indiana has requested an effective date of October 1, 2000.

Copies of this filing have been sent to Reliant, the Indiana Utility Regulatory Commission, and the Indiana Office of Utility Consumer Counselor.

Comment date: November 8, 2000, in accordance with Standard Paragraph E at the end of this notice.

24. LG&E-Westmoreland Hopewell

[Docket Nos. QF88-85-000 and EL01-8-000]

Take notice that on October 16, 2000, LG&E-Westmoreland Hopewell, a limited general partnership with its principal place of business at 12500 Fair Lakes Circle, Suite 350, Fairfax, Virginia 22033 filed in the above-referenced docket a petition for a limited waiver of the Commission's operating standard pursuant to § 292.205(c) of the Commission's regulations.

Comment date: November 15, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-27763 Filed 10-27-00; 8:45 am]

BILLING CODE 6717-01-P